DEPARTMENT OF HOMELAND SECURITY

Federal Emergency Management Agency

[Docket ID FEMA-2019-0002; Internal Agency Docket No. FEMA-B-1927]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before August 19, 2019.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1927, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Oklahoma County, Oklahoma and Incorporated Areas
Project: 13-06-0690S Preliminary Date: January 16, 2019
City of Edmond | Planning and Public Works Building, 10 South Littler Avenue, Edmond, OK 73034.
Unincorporated Areas of Oklahoma County | Oklahoma County Engineering and Planning Department, 320 Robert S. Kerr Avenue, Suite 201, Oklahoma City, OK 73102.
Schuylkill County, Pennsylvania (All Jurisdictions)
Project: 11-03-2055S Preliminary Date: August 24, 2018 and December 17, 2018
Borough of Ashland | Borough Hall, 401 South 18th Street, Ashland, PA 17921.
Borough of Auburn | Borough Hall, 451 Pearson Street, Auburn, PA 17922.
Borough of Coaldale | Borough Office, 221 3rd Street, Coaldale, PA 18218.
Borough of Cressona | Municipal Building, 68 South Sillyman Street, Cressona, PA 17929.
Borough of Deer Lake | Deer Lake Municipal Building, 238 Lakefront Drive, Orwigsburg, PA 17961.
Borough of Frackville | Borough Hall, 42 South Center Street, Frackville, PA 17931.
Borough of Gilberton | Gilberton Borough Hall, 2710 Main Street, Mahanoy Plane, PA 17949.
Borough of Girardville | Borough Hall, 201 North 4th Street, Girardville, PA 17935.
Borough of Gordon | Municipal Building, 324 East Plane and Otto Streets, Gordon, PA 17936.
Borough of Landingville | Borough Hall, 8 Park Street, Landingville, PA 17972.
Borough of Mahanoy City | Municipal Building, 239 East Pine Street, Mahanoy City, PA 17948.
Borough of McAdoo | Borough Hall, 23 North Hancock Street, McAdoo, PA 18237.
Borough of Mechanicsville | Mechanicsville Borough Hall, 918 1st Street, Pottsville, PA 17901.
Borough of Middleport | Borough Hall, 27 Washington Street, Middleport, PA 17953.
Borough of Minersville | Borough Hall, 2 East Sunbury Street, Minersville, PA 17954.
Borough of Mount Carbon | Borough Hall, 1105 South Center Street, Mount Carbon, PA 17901.
Borough of New Philadelphia | Borough Hall, 15 Macomb Street, New Philadelphia, PA 17959.
Borough of New Ringgold | Borough Building, 302 East Railroad Avenue, New Ringgold, PA 17960.
Borough of Orwigsburg | Borough Hall, 209 North Warren Street, Orwigsburg, PA 17961.
Borough of Palo Alto | Palo Alto Borough Hall, 142 East Bacon Street, Pottsville, PA 17901.
Borough of Pine Grove | Borough Hall, 1 Snyder Avenue, Pine Grove, PA 17963.
Borough of Port Carbon | Borough Hall, 301 1st Street, Port Carbon, PA 17965.
Borough of Port Clinton | Port Clinton Map Repository, 44 Motel Drive, Shartlesville, PA 19554.
Borough of Ringtown | Borough Hall, 31 South Center Street, Ringtown, PA 17967.
Borough of Schuylkill Haven | Borough Hall, 333 Center Avenue, Schuylkill Haven, PA 17972.
Borough of St. Clair | Borough Hall, 16 South 3rd Street, St. Clair, PA 17970.
Borough of Tower City | Borough Building, 219 East Colliery Avenue, Tower City, PA 17980.
Borough of Tremont | Municipal Building, 139 Clay Street, Suite 1, Tremont, PA 17981.
City of Pottsville | City Hall, 401 North Centre Street, Pottsville, PA 17901.
Township of Barry | Barry Community Center, 868 Deep Creek Road, Ashland, PA 17921.
Township of Branch | Branch Township Building, 46 Phoenix Park Road, Llewellyn, PA 17944.
Township of Blythe | Township of Blythe, Lehigh Engineering, 200 Mahantongo Street, Pottsville, PA 17901.
Township of Butler | Butler Township Building, 211 Broad Street, Ashland, PA 17921.
Township of Cass | Cass Municipal Building, 1209 Valley Road, Pottsville, PA 17901.
Township of Delano | Municipal Building, 1 Hazle Street, Delano, PA 18220.
Township of East Brunswick | East Brunswick Township Building, 35 West Catawissa Street, New Ringgold, PA 17960.
Township of East Norwegian | East Norwegian Township Building, 593 Port Carbon Saint Clair Highway, Pottsville, PA 17901.
Township of East Union | East Union Municipal Building, 10 East Elm Street, Sheppton, PA 18248.
Township of Eldred | Eldred Township Building, 154 Ridge Road, Pitman, PA 17964.
Township of Foster | Foster Township Building, 1540 Sunbury Road, Pottsville, PA 17901.
Township of Frailey | Frailey Township Building, 23 Maryland Street, Donaldson, PA 17981.
Township of Hegins | Hegins Municipal Building, 421 Gap Street, Valley View, PA 17983.
Township of Hubley | Hubley Township Building, 2208 East Main Street, Sacramento, PA 17968.
Township of Kline | Kline Township Building, 30 5th Street, Kelayres, PA 18231.
Township of Mahanoy | Mahanoy Township Building, 1010 West Centre Street, Mahanoy City, PA 17948.
Township of New Castle | New Castle Township Building, 248-250 Broad Street, St. Clair, PA 17970.
Township of North Manheim | North Manheim Township Building, 303 Manheim Road, Pottsville, PA 17901.
Township of North Union | North Union Township Building, 185 Mahanoy Street, Nuremburg, PA 18241.
Township of Norwegian | Norwegian Township Building, 506 Maple Avenue, Mar Lin, PA 17951.
Township of Pine Grove | Township Building, 175 Oak Grove Road, Pine Grove, PA 17963.
Township of Porter | Porter Township Building, 309 West Wiconisco Street, Muir, PA 17957.
Township of Reilly | Reilly Township, Newtown Fire Company, 36 Wood Street, Tremont, PA 17981.
Township of Rush | Rush Township Building, 104 Mahanoy Avenue, Tamaqua, PA 18252.
Township of Ryan | Ryan Township Building, 36 North 5th Avenue, Barnesville, PA 18214.
Township of Schuylkill | Schuylkill Township Building, 75 Walnut Street, Mary-D, PA 17952.
Township of South Manheim | South Manheim Township Building, 3089 Fair Road, Auburn, PA 17922.
Township of Tremont | Tremont Township Building, 166 Molleystown Road, Pine Grove, PA 17963.
Township of Union | Union Township Building, 155 Zion Grove Road, Ringtown, PA 17967.
Township of Upper Mahantongo | Upper Mahantongo Township Building, 6 Municipal Road, Klingerstown, PA 17941.
Township of Walker | Walker Township Building, 9 Township Road, Tamaqua, PA 18252.
Township of Washington | Washington Township Building, 225 Frantz Road, Pine Grove, PA 17963.
Township of Wayne | Wayne Township Building, 10 Municipal Road, Schuylkill Haven, PA 17972.
Township of West Brunswick | West Brunswick Township Building, 95 Municipal Road, Orwigsburg, PA 17961.
Township of West Mahanoy | West Mahanoy Township Building, 190 Pennsylvania Avenue, Shenandoah, PA 17976.
Township of West Penn | West Penn Township Building, 27 Municipal Road, New Ringgold, PA 17960.

[FR Doc. 2019-10394 Filed 5-17-19; 8:45 am]

BILLING CODE 9110-12-P